DEPARTMENT OF COMMERCE

National Oceanic and Atmospheric Administration

RIN 0648-XE185

Pacific Island Fisheries; Public Meeting

AGENCY: National Marine Fisheries Service (NMFS), National Oceanic and Atmospheric Administration (NOAA), Commerce.

ACTION: Notice; public meeting.

SUMMARY: NMFS announces that the Center for Independent Experts will meet to review methods for reviewing modified integrated assessments (based on catch-MSY model) for data-poor stocks.

DATES: See SUPPLEMENTARY INFORMATION section for meeting dates and times.

ADDRESSES: The meeting will be held in the Pelagic Suite Conference Room, Western Pacific Fishery Management Council, 1164 Bishop St., Suite 1400, Honolulu, HI 96813.

FOR FURTHER INFORMATION CONTACT: Ben Richards, NMFS Pacific Islands Fisheries Science Center, (808) 725-5320 or benjamin.richards@noaa.gov.

SUPPLEMENTARY INFORMATION: The meeting schedule and agenda are as follows:

1. Tuesday, October 13, 2015 (9:30 a.m.-5 p.m.)

• Introduction

• Background information—Objectives and Terms of Reference

• Coral reef fisheries in the Pacific Islands Region

• Data: Fishery-dependent data collection systems in the Pacific Islands, Coral Reef Ecosystem Division surveys, biological data, other data

• Discussion

2. Wednesday, October 14, 2015 (8:30 a.m.-4 p.m.)

• Review of modified integrated Catch-MSY stock assessment

• Discussion

3. Thursday, October 15, 2015 (8:30 a.m.-4 p.m.)

• Continue assessment review (1/2 day)

• Discussion

• Panel discussions (Closed)

4. Friday, October 16, 2015 (8:30 a.m.-4 p.m.)

• Panel discussions (1/2 day)

• Present results (afternoon)

• Adjourn

The agenda order may change. The meetings will run as late as necessary to complete scheduled business. Although non-emergency issues not contained in this agenda may come up at the meeting for discussion, those issues may not be the subject of formal action during the meeting. Action will be restricted to those issues specifically listed in this notice and any issues arising after publication of this notice that require emergency action under section 305(c) of the Magnuson-Stevens Act, provided the public has been notified of the intent to take final action to address the emergency.

Special Accommodations

These meetings are physically accessible to people with disabilities. Direct requests for sign language interpretation or other auxiliary aids to Beth Lumsden, (808) 725-5330 or beth.lumsden@noaa.gov at least 5 days prior to the meeting date.

Authority: 16 U.S.C. 1801 et seq.

Dated: September 11, 2015.
Emily H. Menashes,
Acting Director, Office of Sustainable Fisheries, National Marine Fisheries Service.

[FR Doc. 2015-23335 Filed 9-16-15; 8:45 am]

BILLING CODE 3510-22-P